AGENCY FOR INTERNATIONAL DEVELOPMENT

Board for International Food and Agricultural Development; One Hundred and Sixtieth Meeting; Notice of Meeting

Pursuant to the Federal Advisory Committee Act, notice is hereby given of the one hundred and sixtieth meeting of the Board for International Food and Agricultural Development (BIFAD). The meeting will be held from 8:15 a.m. to 4 p.m. on October 12, 2010 at the Des Moines Marriott Downtown located at 700 Grand Avenue, Des Moines, Iowa. The meeting venue is in the Marriott Hotel's Iowa Ballroom, Salons A, B, and C located on the second floor. “Higher Education: A Critical Partner in Global Food Security” will be the central theme of the October meeting.

Dr. Robert Easter, Chairman of BIFAD, will preside over the proceedings. Dr. Easter is Interim Chancellor and Provost, University of Illinois at Urbana-Champaign.

On May 20 of this year, the Administration officially rolled out its global food security strategy, known as “Feed the Future.” This new initiative has generated considerable anticipation within the higher education community, especially since one of the Agency's main program pillars will be expansion of research and development to increase agricultural productivity globally. As part of the plan to increase agricultural research, USAID and USDA have developed the Borlaug Initiative. Concurrently, USAID is undertaking a Science and Technology Initiative to improve dramatically its scientific capacity to carry out Feed the Future and other critical global development challenges that increasingly necessitate scientific analysis. The 160th BIFAD meeting will review these efforts and provide a forum to advance the dialogue between the Title XII community and their Federal partners.

To set the stage for the day's activities, the Board will begin with a presentation by Dr. Allen C. Christensen, past Board member and Director of the Benson Agricultural and Food Institute at Brigham Young University. Dr Christensen will provide a historical perspective on important contributions Title XII and universities have made over the years, particularly during the last global food crisis 25-30 years ago, toward improving the plight of the small, rural farmer in developing countries. The lessons learned over the years can have an important impact for moving forward with a new global food security policy paradigm.

With Dr. Christensen's presentation as the backdrop, the Board will then move forward to sign a Memorandum of Understanding that outlines strategic areas of cooperation on science and technology in development over the coming months. Signing on behalf of USAID will be Dr. Alex Dehgan, the Agency's Chief Scientist and Director of the Agency's new Office of Science and Technology. Signing for BIFAD will be Chairman Robert Easter. Dr. Dehgan will make remarks regarding USAID's strategic priority on “Transforming Development through Science, Technology and Innovation (STI).”

After the signing ceremony, the Board will then proceed to its main theme of the meeting, highlighting the potential role of universities in the Administration's Feed the Future Initiative and USAID's renewed STI focus. This session will last two hours and provide an opportunity for the Title XII community to learn more about the Administration's global food security strategy while demonstrating the value added of greater university engagement. A panel of USAID and USDA speakers will discuss an array of plans and ideas under development for addressing global agricultural problems. A panel focusing on the role of research and representing the Title XII community will follow. It is expected that a Director of a Managing Entity of a Collaborative Research Support Program (CRSP) will participate on the panel and explain how the CRSP model can help achieve research goals of Feed the Future. Another panel member will discuss how the Africa-U.S. Higher Education Initiative can build agricultural capacity in Sub-Saharan African universities for sustainable agricultural development. One or two Deans of Land-Grant universities will round out the panel. Their message will highlight how universities have responded to change and have been in the vanguard of new approaches, processes, technologies, etc., in the functional areas of teaching, research, and extension for addressing global problems.

The Board will then move into the public comment period. At the conclusion of comments from the public, the Board will recess for an executive luncheon (closed to the public).

When the Board re-convenes, it will hear a panel discussion on the recent workshop conducted by the Minority Serving Institutions Task Force, established by BIFAD last year to rejuvenate the partnership between USAID and Minority Serving Institutions. The panel will be moderated by Board member William DeLauder, who chairs the Task Force.

The Board will then hear a report on the activities of the Haiti Task Force, which the Board established in 2010 in response to the tragic earthquake in Haiti. The Task Force is chaired by Board member Elsa Murano, who will present a proposal for the long-term rebuilding of Haiti's agricultural system.

After the Haiti Task Force presentation, BIFAD will hear two short reports summarizing efforts to build agricultural higher education capacity in Iraq, Afghanistan and Pakistan. Title XII institutions continue to play an important role in helping the civilian populations of these countries improve agricultural productivity amidst past and ongoing hostilities.

The Board will wrap up its day's proceedings with an update on the Title XII report to Congress for FY 2009. The presentation will be made by John Becker, USAID/ODP. The Title XII annual report to Congress is required by Title XII of the Foreign Assistance Act, and provides an opportunity for BIFAD's views to be incorporated in the report.

After the presentations are concluded for the day, but before adjournment, the Board will provide another opportunity for public comment.

The Board meeting is open to the public. The Board welcomes open dialogue to promote greater focus on critical issues facing USAID, the role of universities in development, and applications of U.S. scientific, technical and institutional capabilities to international agriculture. Note on Public Comments: Due to time constraints public comments to the Board will be limited to three (3) minutes to accommodate as many as possible. It is preferred to have requests for comments submitted to the Board in writing. Two periods for public comment will be provided during the Board meeting—just before lunch and adjournment.

Those wishing to attend the meeting or obtain additional information about BIFAD should contact Dr. Ronald S. Senykoff, Executive Director and Designated Federal Officer for BIFAD. Write him in care of the U.S. Agency for International Development, Ronald Reagan Building, Office of Development Partners, 1300 Pennsylvania Avenue, NW., Room 6.7-153, Washington, DC 20523-2110 or telephone him at (202) 712-0218 or fax (202) 216-3124.

Any questions concerning this notice may be directed to:

—Ronald S. Senykoff, PhD, Executive Director, BIFAD, Office of Development Partners, (202) 712-0218.

Ronald S. Senykoff,
Executive Director and USAID Designated Federal Officer for BIFAD, Office of Development Partners, U.S. Agency for International Development.

[FR Doc. 2010-25201 Filed 10-5-10; 8:45 am]

BILLING CODE P